DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of seventeen additional entities and twenty-six additional individuals whose property and interests in property have been blocked pursuant to the Foreign Narcotics Kingpin Designation Act (“Kingpin Act”) (21 U.S.C. 1901-1908, 8 U.S.C. 1182).

DATES: The designation by the Secretary of the Treasury of the seventeen entities and twenty-six individuals identified in this notice pursuant to section 805(b) of the Kingpin Act is effective on November 13, 2008.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on-demand service, tel.: (202) 622-0077.

Background

The Kingpin Act became law on December 3, 1999. The Act provides a statutory framework for the President to impose sanctions against significant foreign narcotics traffickers and their organizations on a worldwide basis, with the objective of denying their businesses and agents access to the U.S. financial system and to the benefits of trade and transactions involving U.S. companies and individuals.

The Kingpin Act blocks all property and interests in property subject to U.S. jurisdiction which are owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On November 13, 2008, OFAC designated an additional seventeen entities and twenty-six individuals whose property and interests in property are blocked pursuant to section 805(b) of the Foreign Narcotics Kingpin Designation Act.

The list of additional designees follows:

1. DEHONG THAILONG HOTEL CO., LTD. (a.k.a. TAI LONG HOTEL; a.k.a. DEHONG TAILONG INDUSTRY COMPANY LIMITED; a.k.a. THAILONG HOTEL; a.k.a. THAI LONG HOTEL; a.k.a. TAI LUNG HOTEL); Mang Shih Economic Development Zone, De Hong District, Yunnan Province, China; No. 58, Mangshi Avenue, Luxi City, Yunnan, China; (ENTITY) [SDNTK].

2. HONG PANG ELECTRONIC INDUSTRY CO., LTD. (a.k.a. GOLD MOUNT INDUSTRIAL COMPANY LIMITED; a.k.a. HONG PANG ELECTRONIC INDUSTRIES LIMITED); 216, Corner of 49th St. and Maha Bandoola Rd., Pazundaung, Yangon, Burma; Hong Pang Wire Showroom, Room D, 80-81 35th Street, Mandalay, Burma; (ENTITY) [SDNTK].

3. HONG PANG GEMS & JEWELLERY COMPANY LIMITED, 11, Ngui Shwe Wah Road, Between 64th and 65th Street, Chan Maya Thar Si Township, Mandalay, Burma; (ENTITY) [SDNTK].

4. HONG PANG GEMS & JEWELLERY (HK) CO. LIMITED (a.k.a. HONG KONG HONG PANG GEMS & JEWELLERY CO., LTD.); Room 3605 36/F Wu Chung House, 213 Queen's Road East, Wan Chai, Hong Kong; 11, Huang Ching (Gold) Road, Between 64/65 Street, Myo Thit, Mandalay, Burma; 12th Floor C, Jade Exchange Center, 513-531, Canton Road, Kowloon, Hong Kong; 6A, 6D North Section, 7th Building, Chilung Park, 68 Sin Chung St., East City Drive, Beijing, China; No. 19, Hung Hua Bridge, Kunming, Yunnan, China; 28th and 29th Floor, Overseas Friendship Building, 2, Yun Chun Road, Lo Hu, Sham Cheng, Kuang Tung, China; Certificate of Incorporation Number 766810 (Hong Kong); (ENTITY) [SDNTK].

5. HONG PANG GENERAL TRADING COMPANY, LIMITED (f.k.a. HONG PANG IMPORT EXPORT GENERAL TRADING COMPANY LIMITED); 18, Kyaing Ngan St., Qtr. 2, Kyaington, Burma; 102, Lanmadaw St., Sarsy Qtr., Magway, Burma; 9, West of Market, Haw Gone Qtr., Taunggyi, Burma; 157, Pyihtaungsu Rd., Yuzana Qtr., Myitkyina, Burma; 216/222, Room C/D, (G/F), Bo Myat Tun Housing, Mahabandoola Road, Pazundaung Township, Yangon, Burma; (ENTITY) [SDNTK].

6. HONG PANG LIVESTOCK DEVELOPMENT COMPANY LIMITED, Burma; (ENTITY) [SDNTK].

7. HONG PANG MINING COMPANY LIMITED, No. 216/222, Room No. C/D Ground Floor, Bo Myat Tun Housing, Mahabandoola Road, Pazundaung Township, Yangon, Burma; (ENTITY) [SDNTK].

8. HONG PANG TEXTILE COMPANY LIMITED, No. 216/222, Room C/D, Ground Floor, Bo Myat Tun Housing, Mahabandoola Road, Pazundaung Township, Yangon, Burma; (ENTITY) [SDNTK].

9. KHUM THAW COMPANY LIMITED, 261 Wichayanont Road, Chang Moi, Muang, Chiang Mai 50300, Thailand; Registration ID 0505535000804 (Thailand) issued: 28 Feb 1992; (ENTITY) [SDNTK].

10. SANGSIRI KANKASET COMPANY LIMITED, 168 Moo 9, Khi Lek, Mae Taeng, Chiang Mai 50150, Thailand; Registration ID 0505538000783 (Thailand) issued: 08 Feb 1955; (ENTITY) [SDNTK].

11. SHUEN WAI HOLDING LIMITED, Room 3605 36/F Wu Chang House, 213 Queen's Road E, Wan Chai, Hong Kong, Hong Kong; Business Registration Document # 15895496 (Hong Kong); Certificate of Incorporation Number 330330 (Hong Kong); (ENTITY) [SDNTK].

12. TET KHAM GEMS CO., LTD., No. 7 Inya Road & Oo Yin Street, Kamayut Township, Yangon, Burma; (ENTITY) [SDNTK].

13. TET KHAM (S) PTE. LTD., 6 Loyang Way 1 508704, Singapore; Registration ID 200004646G (Singapore) issued: 29 May 2000; (ENTITY) [SDNTK].

14. TET KHAM CONSTRUCTION COMPANY LIMITED, Pyinmana Taung Twin Road, Let Pan Khar Village, Pyinmanar, Mandalay, Burma; No. 7, Corner of Inya Road & Oo Yin Street, Kamayut Township, Yangon, Burma; (ENTITY) [SDNTK].

15. TING SHING TAI JEWELLERY (HK) CO. LIMITED (a.k.a. PO YING JEWELLERY (HK) CO. LIMITED); Room 3605 36/F Wu Chung House, 213 Queens Road East, Wan Chai, Hong Kong; Certificate of Incorporation Number 784702 (Hong Kong); Business Registration Document # 32369313 (Hong Kong); (ENTITY) [SDNTK].

16. VEST SPECTRUM (S) PTE. LTD., 9 Haig Avenue 438864, Singapore; 704 Bedok Reservoir Road 470704, Singapore; Registration ID 199306257C (Singapore) issued: 23 Sep 1993; (ENTITY) [SDNTK].

17. YANGON AIRWAYS COMPANY LIMITED (a.k.a. YANGON AIRWAYS); MMB Tower, Level 5, 166 Upper Pansodan Rd., Mingalar Taung Nyunt Township, Rangoon, Burma; (ENTITY) [SDNTK].

Individuals

1. WEI, Hsueh Lung (a.k.a. SOONTHRON, Cheewinprapasri; a.k.a. SUNTHORN, Chiwinpraphasi; a.k.a. APHICHART, Cheewinprapasi; a.k.a. HKIM, Aik Hsam; f.k.a. HAI HSING, Sae Wei; a.k.a. “Keun Dong”; a.k.a. “Ti Jung”; a.k.a. “Keun Seu Chang”; a.k.a. “Chairman Keun”; a.k.a. “Wei Hsueh Lung”); c/o DEHONG THAILONG HOTEL CO., LTD., Yunnan Province, China; Pang Poi, Shan, Burma; Na Lot, Shan, Burma; 409/4, Soi Wachiratham Sathit 34, Khwaeng Bang Chak, Khet Phra Khanong, Bangkok, Thailand; DOB 1936; POB Chiang Rai, Thailand; National Foreign ID Number 5570700010951 (Thailand); Passport B265235 (Thailand); (INDIVIDUAL) [SDNTK].

2. PRAPATWORA, Atchara (a.k.a. ATCHARA, Samsaeng; a.k.a. ATCHARA, Chiwinpraphasri; a.k.a. SAENGKHAM, Samsaeng; a.k.a. ATCHARA, Praptwora); c/o DEHONG THAILONG HOTEL CO., LTD., Yunnan Province, China; 88/2 Soi Klong Nam Kaew, Tambon Sam Sen Nok, Huay Khwang, Bangkok, Thailand; DOB 09 Sep 1948; National ID No. 3509900001907 (Thailand) exp: Sep 2006; Passport V487440 (Thailand) exp: May 2007; (INDIVIDUAL) [SDNTK].

3. AKIRAPHOKIN, Thit (a.k.a. SUTHIT, Samsaeng; a.k.a. WEI, Ta Han; a.k.a. “Ah Han”; a.k.a. THIT, Akiraphokin); c/o DEHONG THAILONG HOTEL CO., LTD., Yunnan Province, China; 88/2 Soi Klong Nam Kaew, Tambon Sam Sen Nok, Huay Khwang, Bangkok, Thailand; Burma; DOB 3 Mar 1972; National ID No. 310095657121 (Thailand); Passport K491821 (Thailand); (INDIVIDUAL) [SDNTK].

4. SAMSAENG, Suthep (a.k.a. WEI, Ta Chou; a.k.a. “Ah Chou”; a.k.a. “Ah Joe”; a.k.a. SUTHEP, Samsaeng); c/o DEHONG THAILONG HOTEL CO., LTD., Yunnan Province, China; 409/4 Soi Wachirathamsathih 34, Tambon Sam Sen Nok, Huay Khwang, Bangkok, Thailand; DOB 12 May 1971; National ID No. 3100905657113 (Thailand) exp: May 2006; Passport E382464 (Thailand) exp: Jan 2007; (INDIVIDUAL) [SDNTK].

5. HO, Chun Ting (a.k.a. HO, Hsiao; a.k.a. HOE, Aik; a.k.a. HAW, Aik; a.k.a. HEIN, Aung; a.k.a. TIEN, Ho Chun; a.k.a. TE, Ho Chun; a.k.a. HO, Aik; a.k.a. WIN, Aung; a.k.a. HO, Chung Ting; a.k.a. “Ho Chun Ting”; a.k.a. “Hsio Ho”; a.k.a. “Aik Haw”); c/o HONG PANG ELECTRONIC INDUSTRY CO., LTD., Yangon, Burma; c/o HONG PANG GEMS & JEWELLERY COMPANY LIMITED, Mandalay, Burma; c/o HONG PANG GENERAL TRADING COMPANY, LIMITED, Kyaington, Burma; c/o HONG PANG LIVESTOCK DEVELOPMENT COMPANY LIMITED, Burma; c/o HONG PANG MINING COMPANY LIMITED, Yangon, Burma; c/o HONG PANG TEXTILE COMPANY LIMITED, Yangon, Burma; c/o TET KHAM (S) PTE. LTD., Singapore; c/o TET KHAM CONSTRUCTION COMPANY LIMITED, Mandalay, Burma; c/o TET KHAM GEMS CO., LTD., Yangon, Burma; No. 7 Oo Yim Road Kamayut TSP, Rangoon, Burma; 7, Corner of Inya Road and Oo Yin street, Kamayut Township, Rangoon, Burma; The Anchorage, Alexandra Road, Apt. 370G, Cowry Building (Lobby 2, Singapore; 89 15th Street, Lanmadaw Township, Rangoon, Burma; 11 Ngu Shwe Wah Road, Between 64th and 65th Streets, Chan Mya Thar Zan Township, Mandalay, Burma; DOB 18 Jul 1965; National ID No. 029430 (Burma); Passport A043850 (Burma); National ID No. 176089 (Burma); National ID No. 272851 (Singapore); National ID No. 000016 (Burma); (INDIVIDUAL) [SDNTK].

6. CHOU, Hsien Cheng (a.k.a. CHEW, Kheng Siang); c/o TET KHAM (S) PTE. LTD., Singapore; c/o VEST SPECTRUM (S) PTE. LTD., Singapore, Singapore; 9 Haig Avenue, Singapore 438864, Singapore; National ID No. S1199192J (Singapore); (INDIVIDUAL) [SDNTK].

7. HLA, Aung (a.k.a. “Ah Bang”; a.k.a. “Ah Pang”; a.k.a. “Hla Aung”); c/o YANGON AIRWAYS COMPANY LIMITED, Rangoon, Burma; c/o TET KHAM CONSTRUCTION COMPANY LIMITED, Mandalay, Burma; c/o TET KHAM GEMS CO., LTD., Yangon, Burma; No. 7, Corner of Inya Road & Oo Yin Street, Ward. 10, Kamayut, Yangon, Burma; Passport 706634 (Burma); Passport 497797 (Burma); (INDIVIDUAL) [SDNTK].

8. KHINE, Oo Oo (a.k.a. “Oo Oo Khine”; a.k.a. “U Oo Oo Khine”); c/o YANGON AIRWAYS COMPANY LIMITED, Rangoon, Burma; c/o TET KHAM CONSTRUCTION COMPANY LIMITED, Mandalay, Burma; c/o TET KHAM GEMS CO., LTD., Yangon, Burma; 15 Bongyi Street, Lanmadaw Township, Rangoon, Burma; Passport A056782 (Burma); National ID No. 009016 (Burma); (INDIVIDUAL) [SDNTK].

9. MYINT, Li (a.k.a. “U Li Myint”; a.k.a. HSING, Su; a.k.a. “Su Hsing”); c/o HONG PANG ELECTRONIC INDUSTRY CO., LTD., Yangon, Burma; c/o HONG PANG GEMS & JEWELLERY COMPANY LIMITED, Burma; c/o HONG PANG MINING COMPANY LIMITED, Yangon, Burma; c/o HONG PANG TEXTILE COMPANY LIMITED, Yangon, Burma; c/o HONG PANG GENERAL TRADING COMPANY, LIMITED, Kyaington, Burma; c/o HONG PANG LIVESTOCK DEVELOPMENT COMPANY LIMITED, Burma; 525 Merchant Street, Rangoon, Burma; Tangyan, Burma; National ID No. 13/Ta Ta Na (Naing)019077 (Burma); (INDIVIDUAL) [SDNTK].

10. SHIH, Kuo Neng (a.k.a. “Ah San”; a.k.a. KUAI NUENG, Sae Chang; a.k.a. “Shi Kwan Neink”; a.k.a. “Shih Kuo Neng”); Tachilek, Shan, Burma; DOB 1964; (INDIVIDUAL) [SDNTK].

11. BOONCHUA, Chanchira (a.k.a. “Jeh Fong”; a.k.a. LIANG, Ching-fang; a.k.a. “Chefong”; a.k.a. “Che Fong”; a.k.a. CHANCHIRA, Boochuea; a.k.a. BOONCHUA, Chanjira); c/o KHUM THAW COMPANY LIMITED, Chiang Mai, Thailand; c/o SANGSIRI KANKASET COMPANY LIMITED, Chiang Mai, Thailand; 261, Wichayanon Road, Tambon Chang Moi, Amphur Muang, Chiang Mai, Thailand; DOB 15 May 1951; National Foreign ID Number 350991386390 (Thailand) issued: 28 Oct 1952 exp: 14 May 2009; (INDIVIDUAL) [SDNTK].

12. PO, Kong (a.k.a. PU, Chiang; a.k.a. “P'u Li”; a.k.a. “Po Kong”); c/o HONG PANG GEMS & JEWELLERY (HK) CO. LIMITED, Mandalay, Yunnan, Hong Kong; c/o TING SHING TAI JEWELLERY (HK) CO. LIMITED, Hong Kong, Hong Kong; c/o SHUEN WAI HOLDING LIMITED, Hong Kong, Hong Kong; Flat B, 16/F, Dragon View, No. 5 Dragon Terrace, Hong Kong; Flat 6, 2/F, Block 49, Heng Fa Chuen, Chai Wan, Hong Kong; DOB 01 Sep 1944; National ID No. K357514(4) (Hong Kong); Passport H90011666 (Hong Kong); (INDIVIDUAL) [SDNTK].

13. CHA, Ta Fa (a.k.a. “Cha Ta Fa”; a.k.a. LU, Chin Shun; a.k.a. “Lu Ta Fa”; a.k.a. CHATURONG, Thaiyai; a.k.a. “Ta Fa”; a.k.a. CHATURONG, Taiyai); Burma; 29, Wawi Sub-district, Mae Suai District, Chiang Rai, Thailand; DOB 05 Mar 1958; National ID No. 3501000250521 (Thailand); (INDIVIDUAL) [SDNTK].

14. CHANG, Chin Sung (a.k.a. “Ah Sung”; a.k.a. KLUAI YUAI, Choi Luang); Shan State, Burma; 57/2 , Mu 4, Tambon Pa Pae, Amphur Mae Taeng, Chiang Mai, Thailand; DOB 20 Dec 1959; National ID No. 3550700628151 (Thailand); (INDIVIDUAL) [SDNTK].

15. KYA, La Bo (a.k.a. “Cha La Bo”; a.k.a. “Ja La Bo”; a.k.a. “Kya La Bo”); Nakawngmu, Shan, Burma; Wan Hong, Shan, Burma; DOB 1940; Alt. DOB 1942; (INDIVIDUAL) [SDNTK].

16. LAO, Ssu (a.k.a. WANG, Ssu; a.k.a. WANG, Wen Chou; a.k.a. WITTHAYA, Ngamthiralert; a.k.a. HATSADIN, Phonsakunphaisan; a.k.a. RUNGRIT, Thianphichet; a.k.a. “Lao Ssu”); Burma; DOB 01 Jan 1960; National ID No. 3570700443258 (Thailand); Passport P403726 (Thailand); (INDIVIDUAL) [SDNTK].

17. LI, Cheng Yu (a.k.a. “Ah Li Ko”; a.k.a. BUNTHAWEE, Sae Jang; a.k.a. BUNTHAWEE, Sae Chang; a.k.a. BOONTHAWEE, Sae Jang; a.k.a. “Li Cheng Yu”); Shan, Burma; 199/132, Mu 8, Tambon Non Jom, Amphur San Sai, Chiang Mai, Thailand; 725, Mu 10, Tambon Nong Bua, Amphur Chaiprakan, Chiang Mai, Thailand; DOB 06 Jun 1961; National ID No. 5502100007251 (Thailand); Passport X638456 (Thailand); (INDIVIDUAL) [SDNTK].

18. LI, Kai Shou (a.k.a. “Li Kai Shou”); Huay Aw, Shan, Burma; DOB 1949; (INDIVIDUAL) [SDNTK].

19. PAO, Hua Chiang (a.k.a. “Ta Kat”; a.k.a. “Pao Hua Chiang”); Panghsang, Shan, Burma; (INDIVIDUAL) [SDNTK].

20. PAO, Yu Hsiang (a.k.a. “Ta Pang”; a.k.a. “Pao Yu Hsiang”); Kwe Ma, Burma; DOB 19 Sep 1940; (INDIVIDUAL) [SDNTK].

21. PAO, Yu Yi (a.k.a. “Ta Rang”; a.k.a. “Pao Yu Yi”); Panghsang, Shan, Burma; (INDIVIDUAL) [SDNTK].

22. PAO, Yu Liang (a.k.a. “Ta Kyet”; a.k.a. “Pao Yu Liang”); Mong Mao, Shan, Burma; (INDIVIDUAL) [SDNTK].

23. THET, Naing Win (a.k.a. “Thet Naing Win”); c/o TET KHAM CONSTRUCTION COMPANY LIMITED, Mandalay, Burma; Passport 944168 (Burma); (INDIVIDUAL) [SDNTK].

24. TUAN, Shao Kuei (a.k.a. “Mi Chung”; a.k.a. “Ming Chung”; a.k.a. TUAN, Ming Cheng; a.k.a. “Ta Kuei”; a.k.a. KRIANGKRAI, Tuangwitthayakun; a.k.a. SAO KUAY, Sae Tung; a.k.a. “Tuan Shao Kuei”); Mong Kyawt, Shan, Burma; DOB 05 Nov 1950; National ID No. 5500900040846 (Thailand); (INDIVIDUAL) [SDNTK].

25. WEI, Hsueh Yuan (a.k.a. WEI, Hsueh Ying; a.k.a. WEI, Hsueh Yun; a.k.a. PHITAK, Samoechainuek; a.k.a. PHAIROJ, Samoechainuek; a.k.a. PHAIROT, Mopokoo; a.k.a. “Wei Hsueh Yuan”; a.k.a. “Wei Hsueh Ying”); Huay Aw, Shan, Burma; DOB 1952; Alt. DOB 1956; National ID No. 3570900338725 (Thailand); (INDIVIDUAL) [SDNTK].

26. YUN, Cheng (a.k.a. “Yin Chin”; a.k.a. “Yin Chein”; a.k.a. “Yun Cheng”); 11, Ngu Shwe Wah Road, Between 64th and 54th Street, Chan mya Si Township, Mandalay, Burma; National ID No. HWI)040182 (Burma); (INDIVIDUAL) [SDNTK].

Dated: November 13, 2008.
Barbara C. Hammerle,
Acting Director, Office of Foreign Assets Control.

[FR Doc. E8-27680 Filed 11-20-08; 8:45 am]

BILLING CODE 4811-45-P